DEPARTMENT OF DEFENSE

Department of the Army, Corps of Engineers

Notice of Availability of the Draft Environmental Impact Statement for the Proposed Glades Reservoir Water Supply Project, Permit Application SAS-2007-00388 and the Announcement of a Public Hearing

AGENCY: Department of the Army, U.S. Army Corps of Engineers, DoD.

ACTION: Notice of availability.

SUMMARY: Notice is hereby given that the Corps has released a Draft Environmental Impact Statement (DEIS) for the proposed Glades Reservoir water supply project (Proposed Project), and will conduct a Public Hearing for this DEIS.

DATES: Comments will be received until 5:00 p.m., December 29, 2015; or by letter postmarked no later than December 29, 2015. The public hearing will be held on December 8, 2015.

ADDRESSES: Comments regarding the DEIS may be submitted to: U.S. Army Corps of Engineers, Savannah District, Regulatory Division, Attention: SAS-2007-00388, 100 West Oglethorpe Avenue, Savannah, Georgia 31401-3640

FOR FURTHER INFORMATION CONTACT: Richard Morgan, Project Manager, at (912) 652-5139, or at Richard.M.Morgan@usace.army.mil.

SUPPLEMENTARY INFORMATION: 1. National Environmental Policy Act. The Corps prepared this DEIS to meet its National Environmental Policy Act (NEPA) (42 U.S.C. 4321 to 4370f) obligation in its evaluation of an application for a Department of the Army Permit pursuant to Section 404 of the Clean Water Act (CWA) (33 U.S.C. 1344) for the Proposed Project. This DEIS presents the direct, indirect, and cumulative impacts of the Proposed Project on the human and natural environment.

2. Project Description. The Hall County Board of Commissioners submitted an application for a permit to construct an 850-acre pump-storage reservoir on Flat Creek, a tributary to the Chattahoochee River located approximately 35 miles northeast of Atlanta, near the upstream end of Lake Sidney Lanier, in Hall County, Georgia. The proposed dam would have a height of 140 feet, with a normal pool surface elevation of 1,180 feet above mean sea level. Dam and reservoir construction would result in the filling and inundation of 39.2 acres of wetland and 95,000 linear feet of stream. A 37 million gallon per day (mgd) intake and pump station would be constructed on the Chattahoochee River, and would transfer water from the river to the reservoir via a 48-inch diameter, 4-mile transmission pipeline. Water would be pumped from the Chattahoochee River to fill or refill the reservoir only when river flows are above the instream flow protection thresholds (IFPT), and only when the IFPT can be maintained in the river below the pump station. Water stored in the reservoir would be released into Flat Creek, flow downstream into Lake Lanier, and be withdrawn at an existing raw water intake operated by the City of Gainesville. The Proposed Project would provide a total storage volume of 11.7 billion gallons and an annual average water supply of 50 mgd, to meet Hall County's projected water demand through the year 2060.

2. Alternatives. This DEIS evaluated 13 alternatives for the Proposed Project based on a range of Lake Lanier allocations, reservoir sites, reservoir yield, and transmission and treatment strategies. A wide range of water supply sources such as water conservation, additional Lake Lanier water supply allocation, purchase from adjacent counties, and additional groundwater develop.m.ent were identified prior to evaluating the need for any built alternatives. A range of potential Lake Lanier water supply allocations for Gainesville/Hall County were considered in the Alternatives Analysis, resulting in a range of reservoir safe yields for meeting the projected 2060 water supply needs.

3. Issues. There are several potential environmental and public interest issues that were addressed in this DEIS. Public interest issues include but are not limited to potential effects to downstream flows of the Chattahoochee River; Lake Lanier water level and water supply capacity; potential aquatic resources impacts to streams, wetlands and aquatic organisms; and potential effects to cultural resources, aesthetics, recreation, infrastructure, navigation, transportation, and threatened and endangered species.

4. Scoping. A Notice of Intent (NOI) to prepare an EIS was published in the Federal Register on February 17, 2012. The Corps held a total of three public scoping meetings in March 2012, in Alabama, Florida and Georgia, which are located in the Apalachicola-Chattahoochee-Flint (ACF) River Basin.

5. Cooperating Agencies. The U.S. Environmental Protection Agency and the Georgia Environmental Protection Division have been participating in the NEPA process as cooperating agencies (40 CFR 1501.6, 1508.5). Formal cooperating agency agreements were executed between the Corps and these two agencies.

6. Availability of the DEIS. The DEIS and appendices are available to the public for review in the following formats:

a. In the Federal Register dated October 30, 2015.

b. Online as PDF documents at http://www.gladesreservoir.com/.

c. As a CD upon written request to the Corps address listed above.

7. Public Review and Comment. The public comment period will commence with the publication of this notice and will end 60 days after its publication, on December 29, 2015. All persons and organizations that have an interest in the proposed action, including minority, low-income, disadvantaged, and Native American groups, are urged to participate in this NEPA environmental analysis process by reviewing the DEIS and submitting comments for consideration. Further information regarding the DEIS, including all available documents, background and historical information, and updates is available online at http://www.gladesreservoir.com/.

8. Comments may be submitted via the following methods:

a. At the public hearing through comment forms.

b. Verbally through the court reporter at public hearing.

c. By emailing Richard.M.Morgan@usace.army.mil.

d. By letter addressed to the Corps address listed above.

e. Online at http://www.gladesreservoir.com/.

9. Open House and Public Hearing. The Corps will hold an open house and public hearing to allow for public presentation of comments. The open house and public hearing will be held on Tuesday, December 8, 2015 from 5:00-9:00 p.m., at the Hall County Board of Commissioners' Auditorium, located at 2875 Browns Bridge Road, Gainesville, Georgia 30504. The open house will be from 5:00 p.m. to 6:00 p.m., with public hearing to begin at 6:00 p.m. and end at 9:00 p.m.

David M. Lekson,
Chief, Regulatory Division.

[FR Doc. 2015-27736 Filed 10-29-15; 8:45 am]

BILLING CODE 3720-58-P